DEPARTMENT OF THE INTERIOR

National Park Service

[NPS-WASO-NRNHL-22745; PPWOCRADI0, PCU00RP14.R50000]

National Register of Historic Places; Notification of Pending Nominations and Related Actions

AGENCY: National Park Service, Interior.

ACTION: Notice.

SUMMARY: The National Park Service is soliciting comments on the significance of properties nominated before January 7, 2017, for listing or related actions in the National Register of Historic Places.

DATES: Comments should be submitted by March 21, 2017.

ADDRESSES: Comments may be sent via U.S. Postal Service to the National Register of Historic Places, National Park Service, 1849 C St. NW., MS 2280, Washington, DC 20240; by all other carriers, National Register of Historic Places, National Park Service, 1201 Eye St. NW., 8th Floor, Washington, DC 20005; or by fax, 202-371-6447.

SUPPLEMENTARY INFORMATION: The properties listed in this notice are being considered for listing or related actions in the National Register of Historic Places. Nominations for their consideration were received by the National Park Service before January 7, 2017. Pursuant to section 60.13 of 36 CFR part 60, written comments are being accepted concerning the significance of the nominated properties under the National Register criteria for evaluation.

Before including your address, phone number, email address, or other personal identifying information in your comment, you should be aware that your entire comment—including your personal identifying information—may be made publicly available at any time. While you can ask us in your comment to withhold your personal identifying information from public review, we cannot guarantee that we will be able to do so.

Nominations submitted by State Historic Preservation Officers:

COLORADO

Denver County

Ross—Broadway Branch, Denver Public Library, 33 E. Bayaud Ave., Denver, SG100000655

DELAWARE

New Castle County

House at 901 Mt. Lebanon Rd., 901 Mt. Lebanon Rd., Rockland vicinity, SG100000656

NEW YORK

Erie County

Mentholatum Company Building, The, 1360 Niagara St., Buffalo, SG100000657

St. Rose of Lima Roman Catholic Church Complex, 500 Parker Ave., Buffalo, SG100000658

St. Thomas Aquinas Roman Catholic Church Complex, 432 Abbott Rd., Buffalo, SG100000659

Kings County

Offerman Building, 503 Fulton St., Brooklyn, SG100000661

Richmond County

Silver Lake Cemetery, 926 Victory Blvd., Staten Island, SG100000660

OHIO

Ashland County

Kelley, William, Hardware Store—Hayesville Odd Fellows Hall, 7 E. Main St., Hayesville, SG100000662

Cuyahoga County

Tinnerman Steel Range Company, 2048 Fulton Rd., Cleveland, SG100000663

Franklin County

Budd Dairy Company, 1086 N. 4th St., Columbus, SG100000664

Edna, The, 877-881 E. Long St., Columbus, SG100000665

Hamilton County

Lowrie, S. Gale and Agnes P., House, 20 Rawson Woods Cir., Cincinnati, SG100000666

PUERTO RICO

Maricao Municipality

Vivero de Peces de Maricao, (New Deal Era Constructions in the Forest Reserves in Puerto Rico), PR 401, km. 1.7, Maricao Afuera Ward, Maricao vicinity, MP100000667

TEXAS

Bexar County

Reinbolt Hall at St. Mary's University, 1 Camino Santa Maria, San Antonio, SG100000668

Wedgwood, The, 6701 Blanco Rd., Castle Hills, SG100000669

Collin County

Farmersville Commercial Historic District, Along Main & McKinney Sts., Farmersville, SG100000670

Dallas County

Grand Lodge of the Colored Knights of Pythias, Texas, 2551 Elm St., Dallas, SG100000671

Travis College Hill Historic District, 300-400 blks. S. 11th St., Garland, SG100000672

Gonzales County

First Shot Monuments Historic District, TX Spur Rd. 95 from TX 97 to Stevens Creek, Cost vicinity, SG100000673

Tarrant County

Jennings—Vickery Historic District, Roughly bounded by W. Vickery Blvd., St. Louis & W. Daggett Aves., Hemphill St. & Jennings Ave. underpass, Fort Worth, SG100000674

Williamson County

Dickey, Dr. James L., House, 500 Burkett Rd., Taylor, SG100000675

VIRGINIA

Franklin County

Snow Creek Anglican Church, 436 Old Chapel Rd., Penhook vicinity, SG100000676

Lynchburg Independent city

Lynchburg Hosiery Mill No. 1, 2734 Fort Ave., Lynchburg (Independent city), SG100000677

Richmond Independent city

Rockfalls, 7441 Rockfalls Dr., Richmond (Independent city), SG100000678

Shenandoah County

Bowman, Jacob, House, 2470 Polk Rd., Edinburg vicinity, SG100000679

WISCONSIN

Sheboygan County

Washington Elementary School, 1238 Geele Ave., Sheboygan, SG100000680

A request for removal has been made for the following resource(s):

VIRGINIA

Pittsylvania County

Woodlawn, 5321 Henrys Mill Rd., Vernon Hill vicinity, OT05000478

Authority: 60.13 of 36 CFR part 60.

Dated: January 7, 2017.
J. Paul Loether,
Chief, National Register of Historic Places/National Historic Landmarks Program.

[FR Doc. 2017-04239 Filed 3-3-17; 8:45 am]

BILLING CODE 4310-70-P